Title 3—

The President

Memorandum of March 3, 2000

Delegation of Authority To Transmit Report on Cooperative Projects With Russia

Memorandum for the Secretary of Defense

By authority vested in me as President by the Constitution and the laws of the United States of America, including section 301 of title 3, I hereby delegate to the Secretary of Defense the duties and responsibilities vested in the President by section 2705(d) of Division G of the Omnibus Consolidated and Emergency Supplemental Appropriations Act, 1999 (Public Law 105-277; 112 Stat. 2681-844). Such duties and responsibilities shall be exercised subject to the concurrence of the Secretary of State.

The reporting requirements delegated by this memorandum to the Secretary of Defense may be redelegated not lower than the Under Secretary level. The Department of Defense shall obtain clearance on the report from the Office of Management and Budget prior to its submission to the Congress.

Any reference in this memorandum to the provisions of any Act shall be deemed to be referenced to such Act or its provisions as may be amended from time to time.

You are authorized and directed to publish this memorandum in the Federal Register.

wj

THE WHITE HOUSE,

Washington, March 3, 2000

[FR Doc. 01-1340

Filed 1-12-01; 8:45 am]

Billing code 5001-10-M